NATIONAL AERONAUTICS AND SPACE ADMINISTRATION

[Notice 02-128]

Notice of Information Collection Under OMB Review

AGENCY: National Aeronautics and Space Administration (NASA).

ACTION: Notice of information collection under OMB review.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted on or before December 30, 2002.

ADDRESSES: All comments should be addressed to Karl Beisel, Code HC, National Aeronautics and Space Administration, Washington, DC 20546-0001.

FOR FURTHER INFORMATION CONTACT: Ms. Nancy Kaplan, NASA Reports Officer, (202) 358-1372.

Title: Required Central Contractor Registration.

OMB Number: 2700-0097.

Type of review: Extension.

Need and Uses: The information obtained in this collection will be used to populate the vendor database in the NASA Integrated Financial Management (IFM) System.

Affected Public: Business or other for-profit; Federal Government; Not-for-profit institutions; State, Local, or Tribal Government.

Number of Respondents: 10,200.

Annual Responses: 1,200.

Hours Per Request: Approximately 15 minutes/request.

Annual Burden Hours: 3,130.

Frequency of Report: One time.

Patricia L. Dunnington,
Deputy Chief Information Officer, Office of the Administrator.

[FR Doc. 02-27581 Filed 10-29-02; 8:45 am]

BILLING CODE 7510-01-P